DEPARTMENT OF HEALTH AND HUMAN SERVICES

Health Resources and Services Administration

Discretionary Grant Program

AGENCY: Health Resources and Services Administration (HRSA), Department of Health and Human Services (HHS).

ACTION: Notice of Class Deviation from Competition Requirements for the Maternal and Child Health Bureau's (MCHB) Family-to-Family Health Information Centers (F2F HIC) Program (H84).

SUMMARY: HRSA will be issuing non-competitive awards under the Family-to-Family Health Information Centers Program. Approximately $4.9M will be made available in the form of a grant to current grantees (see below) during the budget period of 6/1/2013—5/31/2014. This will provide for an extension of the program for one year, as provided for in section 624 of the American Taxpayer Relief Act of 2012 (Pub. L. 112-240) (ATRA) with the least disruption to the states, communities, and constituencies that currently receive assistance and services from these grantees.

SUPPLEMENTARY INFORMATION: Intended Recipients of the Awards: The 51 incumbent grantees of record (listed below).

Amount of the Non-Competitive Awards: Up to $95,700 per grantee.

CFDA Number: 93.504.

Period of Supplemental Funding: 6/1/2013-5/31/2014.

Authority: Section 501(c)(1) of the Social Security Act, as amended.

Justification: The F2F HIC program provides grants to family-run/staffed organizations to ensure families of children with special health care needs have access to adequate information about health and community resources to facilitate informed and shared decision-making around their children's health care. F2F HICs were originally authorized under the Budget Deficit Reduction Act of 2005 (Pub. L. 109-171). Congress specified that there be a family-run/staffed center in each state and the District of Columbia that, among other tasks, assists families of children with special health care needs to make informed choices about health care in order to promote good treatment decisions, cost effectiveness, and improved health outcomes; and provides information and educational opportunities for families, their health professionals, schools, and other appropriate entities. The earlier law was later amended by the Patient Protection and Affordable Care Act of 2010 (Pub. L. 111-148), which made funding available until fiscal year (FY) 2012. As the end of the F2F HIC project period quickly approached and continued funding was not provided in the President's Budget for FY 2013, MCHB prepared for closeout of the program.

Section 624 of the ATRA extended the F2F HICs through FY 2013. Under typical circumstances, the project period for the grantees would end on May 31, 2013, and a robust competitive process would take place. As the program's extension is only for one year, MCHB would not have sufficient time to conduct a robust competition and appropriately continue these grants without a break in the grant. MCHB proposes to extend the project periods of these grants by 12 months to properly respond to direction of the F2F HIC program's extension, enacted in the ATRA. This will provide sufficient fiscal resources to continue programmatic activities as outlined in program authorization with the least disruption to the states, communities, and the MCHB constituencies that currently receive assistance and services from these grantees.

FOR FURTHER INFORMATION CONTACT: LaQuanta Smalley, Integrated Services Branch, Division of Services for Children with Special Health Needs, Maternal and Child Health Bureau, Health Resources and Services Administration, 5600 Fishers Lane, Room 13-61, Rockville, MD 20857; 301.443.2370; lsmalley@hrsa.gov.

Maternal and Child Health Bureau Selected Grant Programs Extensions with Funding
Grantee/Organization name | Grant No. | State | FY 2012 Authorized funding level | Revised project end date
Stone Soup Group | H84MC12893 | AK | $95,700 | 31-May-2014.
Family Voices of Alabama Inc. | H84MC12901 | AL | 95,700 | 31-May-2014.
Arkansas Disability Coalition | H84MC12900 | AR | 95,700 | 31-May-2014.
Raising Special Kids | H84MC07942 | AZ | 95,700 | 31-May-2014.
Support for Families of Children w/Disabilities | H84MC07943 | CA | 95,700 | 31-May-2014.
Colorado Nonprofit Development Center | H84MC15142 | CO | 95,700 | 31-May-2014.
PATH Parent to Parent/Family Voices of CT | H84MC21663 | CT | 95,700 | 31-May-2014.
Advocates for Justice and Education, Inc. | H84MC21661 | DC | 95,700 | 31-May-2014.
Delaware Family Voices, Inc. | H84MC21662 | DE | 95,700 | 31-May-2014.
Family Network on Disabilities of Florida, Inc. | H84MC21660 | FL | 95,700 | 31-May-2014.
Parent to Parent of Georgia, Inc. | H84MC07947 | GA | 95,700 | 31-May-2014.
Hawaii Pediatric Association Research & Education Foundation | H84MC07999 | HI | 95,700 | 31-May-2014.
ASK Resource Center | H84MC24065 | IA | 95,700 | 31-May-2014.
Idaho Parents Unlimited Inc. | H84MC12896 | ID | 95,700 | 31-May-2014.
The Arc of Illinois | H84MC06873 | IL | 95,700 | 31-May-2014.
Family Voices Indiana | H84MC21659 | IN | 95,700 | 31-May-2014.
Families Together, Inc. | H84MC09487 | KS | 95,700 | 31-May-2014.
Commission for CSHCN | H84MC12897 | KY | 95,700 | 31-May-2014.
Bayou Land Families Helping Families | H84MC08043 | LA | 95,700 | 31-May-2014.
Federation for Children with Special Needs | H84MC08005 | MA | 95,700 | 31-May-2014.
The Parent's Place of Maryland | H84MC07946 | MD | 95,700 | 31-May-2014.
Maine Parent Federation | H84MC00003 | ME | 95,700 | 31-May-2014.
SEMHA PPA FCCYSHCN | H84MC09365 | MI | 95,700 | 31-May-2014.
PACER Center, Inc. | H84MC00005 | MN | 95,700 | 31-May-2014.
Curators, University of Missouri | H84MC09484 | MO | 95,700 | 31-May-2014.
University of Southern Mississippi | H84MC07948 | MS | 95,700 | 31-May-2014.
Parent's Let's Unite for Kids | H84MC09367 | MT | 95,700 | 31-May-2014.
Exceptional Children's Assistance Center | H84MC08000 | NC | 95,700 | 31-May-2014.
Family Voices of North Dakota, Inc | H84MC07992 | ND | 95,700 | 31-May-2014.
PTI Nebraska | H84MC08009 | NE | 95,700 | 31-May-2014.
NH Coalition for Citizens w/Disabilities | H84MC09488 | NH | 95,700 | 31-May-2014.
Statewide Parent Advocacy Network of NJ | H84MC07997 | NJ | 95,700 | 31-May-2014.
Parents Reaching Out to Help | H84MC08007 | NM | 95,700 | 31-May-2014.
Family TIES of Nevada, Inc. | H84MC08001 | NV | 95,700 | 31-May-2014.
Parent to Parent of NYS | H84MC08006 | NY | 95,700 | 31-May-2014.
Family Voices of Ohio | H84MC12903 | OH | 95,700 | 31-May-2014.
The Oklahoma Family Network, Inc. | H84MC09368 | OK | 95,700 | 31-May-2014.
Oregon Health and Science University | H84MC21658 | OR | 95,700 | 31-May-2014.
Parent Education & Advocacy Leadership Center | H84MC07998 | PA | 95,700 | 31-May-2014.
Rhode Island Parent Information Network, Inc. | H84MC08002 | RI | 95,700 | 31-May-2014.
Family Connection of South Carolina, Inc. | H84MC12895 | SC | 95,700 | 31-May-2014.
South Dakota Parent Connection, Inc. | H84MC07994 | SD | 95,700 | 31-May-2014.
Tennessee Disability Coalition | H84MC00004 | TN | 95,700 | 31-May-2014.
Texas Parent to Parent | H84MC07993 | TX | 95,700 | 31-May-2014.
Utah Parent Center | H84MC07996 | UT | 95,700 | 31-May-2014.
Virginia Commonwealth University | H84MC09486 | VA | 95,700 | 31-May-2014.
Vermont Family Network | H84MC21657 | VT | 95,700 | 31-May-2014.
Washington PAVE | H84MC09369 | WA | 95,700 | 31-May-2014.
Family Voices of Wisconsin, Inc. | H84MC21690 | WI | 95,700 | 31-May-2014.
West Virginia Parent Training and Information, Inc. | H84MC12898 | WV | 95,700 | 31-May-2014.
University of Wyoming | H84MC24069 | WY | 95,700 | 31-May-2014.

Dated: June 5, 2013.
Mary K. Wakefield,
Administrator.

[FR Doc. 2013-13941 Filed 6-11-13; 8:45 am]

BILLING CODE 4165-15-P